DEPARTMENT OF ENERGY

Federal Energy Regulatory Commission

[Docket No. CP00-91-001]

National Fuel Gas Supply Corporation; Notice of Petition To Amend

April 27, 2000.

Take notice that on April 20, 2000, National Fuel Gas Supply Corporation (National Fuel), 10 Lafayette Square, Buffalo, New York 14203, filed in Docket No. CP00-91-001 an amendment to its original application filed pursuant to Sections 7(b) and 7(c) of the Natural Gas Act and Part 157 of the Commission's Regulations (18 CFR 157) for a certificate of public convenience and necessity authorizing the replacement of an existing pipeline and permission and approval to abandon facilities, all as more fully set forth in the original application and the amendment on file with the Commission and open to public inspection. This filing may be viewed on the web at http://www.ferc.fed.us/online/rims.htm (call (202) 208-2222 for assistance).

National Fuel requests to amend its original application in order to eliminate the request for authorization to install the East Branch tie which National Fuel has determined that it is not necessary at this time. National Fuel still proposes to construct and operate the other requested facilities after receiving authorization in this proceeding.

National Fuel estimates that the total cost of the Replacement Project, as proposed to be amended herein, is $11.3 million.

Any questions regarding this amendment application should be directed to David W. Reitz, Assistant General Counsel for National Fuel, 10 Lafayette Square, Buffalo, New York 14203 at (716) 857-7949.

Any person desiring to be heard or to make a protest with reference to said application should on or before May 18, 2000, file with the Federal Energy Regulatory Commission, 888 First Street, N.E., Washington, D.C. 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestant a party to the proceeding. Any person wishing to become a party to a proceeding or to participate as a party in any hearing therein must file a motion to intervene in accordance with the Commission's Rules.

Take further notice that, pursuant to the authority contained in and subject to the jurisdiction conferred upon the Commission by Sections 7 and 15 of the Natural Gas Act and the Commission's Rules of Practice and Procedure, a hearing will be held without further notice before the Commission or its designee on this application if no motion to intervene is filed within the time required herein, if the Commission on its own review of the matter finds that permission and approval for the proposed construction and abandonment are required by the public convenience and necessity. If a motion for leave to intervene is timely filed, or if the Commission on its own motion believes that a formal hearing is required, further notice of such hearing will be duly given. Under the procedures herein provided for, unless otherwise advised, it will be unnecessary for National Fuel to appear or to be represented at the hearing.

David P. Boergers,
Secretary.

[FR Doc. 00-10953 Filed 5-2-00; 8:45 am]

BILLING CODE 6717-01-M